DEPARTMENT OF HEALTH AND HUMAN SERVICES

Food and Drug Administration

[Docket No. 02D-0199]

Advertisements for High-Intensity Mercury Vapor Discharge Lamps; Revocation of Compliance Policy Guide 7133.13

AGENCY: Food and Drug Administration, HHS.

ACTION: Notice.

SUMMARY: The Food and Drug Administration (FDA) is revoking the Compliance Policy Guide (CPG) entitled “Sec. 391.100 Advertisement Literature for High-Intensity Mercury Vapor Discharge Lamps (CPG 7133.13)” because it is obsolete and outdated. This CPG is no longer necessary because it concerns revising advertisements, printed before March 7, 1980, to comply with the Federal performance standard for high-intensity mercury vapor discharge lamps (HIMVDLs).

DATES: June 20, 2002.

ADDRESSES: Submit written requests for single copies of the CPG to the Division of Compliance Policy (HFC-230), Office of Enforcement, Office of Regulatory Affairs, Food and Drug Administration, 5600 Fishers Lane, Rockville, MD 20857, 301-827-0411 or FAX your request to 301-827-0482.

A copy of the CPG may be seen in the Dockets Management Branch (HFA-305), Food and Drug Administration, 5630 Fishers Lane, rm. 1061, Rockville, MD 20852 between 9 a.m. and 4 p.m., Monday through Friday.

FOR FURTHER INFORMATION CONTACT: Jeffrey B. Governale, Division of Compliance Policy (HFC-230), Office of Enforcement, Office of Regulatory Affairs, Food and Drug Administration, 5600 Fishers Lane, Rockville, MD 20857, 301-827-0411.

SUPPLEMENTARY INFORMATION:

I. Background

FDA issued the CPG entitled “Sec. 391.100 Advertisement Literature for High-Intensity Mercury Vapor Discharge Lamps (CPG 7133.13)” on October 1, 1980. This CPG addresses a question from manufacturers related to advertisements, printed before March 7, 1980, for HIMVDLs that were manufactured after that date. These advertisements, primarily catalogs, should have been revised by now. Because the requirements for these types of lamps manufactured after March 7, 1980, and their advertisements are included in the Federal performance standard for HIMVDLs (21 CFR 1040.30), this CPG is obsolete and outdated. Therefore, FDA is revoking CPG 7133.13, in its entirety, to eliminate unnecessary compliance policy.

II. Electronic Access

Before June 20, 2002, a copy of the CPG may also be downloaded to a personal computer with access to the Internet. The Office of Regulatory Affairs (ORA) homepage includes the referenced document that may be accessed at: http://www.fda.gov/ora/compliance_ref/cpg/cpgdev/cpg391-100.html.

Dated: May 14, 2002.
John Marzilli,
Deputy Associate Commissioner for Regulatory Affairs.

[FR Doc. 02-12623 Filed 5-20-02; 8:45 am]

BILLING CODE 4160-01-S